DEPARTMENT OF THE TREASURY

Departmental Offices; Proposed Collections; Comment Requests

ACTION: Notice and request for comments.

SUMMARY: The Department of the Treasury, as part of its continuing effort to reduce paperwork burdens, invites the general public and other Federal agencies to comment on the revision of an information collection that is proposed for approval by the Office of Management and Budget. The Office of International Affairs within the Department of the Treasury is soliciting comments concerning Treasury International Capital Form S, Purchases and Sales of Long-term Securities by Foreigners.

DATES: Written comments should be received on or before November 24, 2008 to be assured of consideration.

ADDRESSES: Direct all written comments to Dwight Wolkow, International Portfolio Investment Data Systems, Department of the Treasury, Room 5422, 1500 Pennsylvania Avenue NW., Washington, DC 20220. In view of possible delays in mail delivery, please also notify Mr. Wolkow by e-mail (dwight.wolkow@do.treas.gov), FAX (202-622-2009) or telephone (202-622-1276).

FOR FURTHER INFORMATION CONTACT: Copies of the proposed forms and instructions are available on the Treasury's TIC Forms Web page, http://www.treas.gov/tic/forms.html. Requests for additional information should be directed to Mr. Wolkow.

SUPPLEMENTARY INFORMATION: Title: Treasury International Capital Form S, Purchases and Sales of Long-term Securities by Foreigners.

OMB Control Number: 1505-0001.

Abstract: Form S is part of the Treasury International Capital (TIC) reporting system, which is required by law (22 U.S.C. 286f; 22 U.S.C. 3103; E.O. 10033; 31 CFR part 128), and is designed to collect timely information on international portfolio capital movements. Form S is a monthly report used to cover transactions in long-term marketable securities undertaken DIRECTLY with foreigners by banks, other depository institutions, brokers, dealers, underwriting groups and other individuals and institutions. This information is necessary for compiling the U.S. balance of payments and international investment position accounts, and for formulating U.S. international financial and monetary policies.

Current Actions: (a) Under the “Grand Total” row (9999-6), an additional row will be added to record the total of transactions in asset-backed-securities (ABS) that is included in the “Grand Total” row. In the new row, entries will be required under the columns for “Bonds of U.S Gov't Corporations and Federally-Sponsored Agencies”, for “Corporate and Other Bonds”, and for “Foreign Bonds” (columns 3,4,5,6,9,10). The new row will also be included in the addendum section of the form that covers transactions with foreign official institutions. The additional information will satisfy a minimum need for more timely information on such transactions. The information will increase the reporting burden modestly as compared with the alternative burden of adding new columns because columns would require the data by country. The additional information will move toward providing information already available in the less timely annual reports on holdings of securities. Comments from TIC respondents indicate that their computerized database systems can produce the data on ABS; (b) the instructions will be revised to cover the additional row proposed above; (c) the instructions will be revised to add coverage of reporting by prime brokers; (d) the instructions (section D of the General Instructions) will be revised to require that foreign currency transactions be converted to U.S. dollars as of the settlement date, instead of the current requirement to convert as of the report date; (e) the instructions (section F of the General Instructions) will be revised to require that data reporters, once the exemption level is exceeded, continue to report for the remainder of the current calendar year, instead of the current requirement to continue reporting for that period plus the following calendar year; and (d) these changes will be effective beginning with the reports as of March 31, 2009.

Type of Review: Revision of a currently approved collection.

Affected Public: Business or other for-profit organizations.

Form S (1505-0001)

Estimated Number of Respondents: 254

Estimated Average Time per Respondent: Six hours per respondent per filing. This estimate includes 0.4 hours for the Current Actions proposed above. The estimated average time per respondent varies from 10.8 hours for the approximately 30 major reporters to 5.4 hours for the other reporters.

Estimated Total Annual Burden Hours: 18,400 hours, based on 12 reporting periods per year.

Request for Comments: Comments submitted in response to this notice will be summarized and/or included in the request for Office of Management and Budget approval. All comments will become a matter of public record. The public is invited to submit written comments concerning: (a) Whether Form S is necessary for the proper performance of the functions of the Office, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Systems.

[FR Doc. E8-22339 Filed 9-23-08; 8:45 am]

BILLING CODE 4810-25-P